DEPARTMENT OF HOMELAND SECURITY

Coast Guard

[Docket No. USCG-2011-1032]

Houston/Galveston Navigation Safety Advisory Committee; Vacancies

AGENCY: Coast Guard, DHS.

ACTION: Request for applications.

SUMMARY: The Coast Guard seeks applications for membership on the Houston/Galveston Navigation Safety Advisory Committee (HOGANSAC). This Committee provides advice and makes recommendations to the Coast Guard on matters relating to the safe transit of vessels and products through Galveston Bay, and to and from the Ports of Galveston, Houston, Texas City, and Galveston Bay.

DATES: Applicants must send a cover letter describing their interest, reasons for application, and qualifications, and should enclose a complete professional biography or resume to CDR Michael Zidik, the Alternate Designated Federal Officer (ADFO), on or before February 1, 2012.

ADDRESSES: Applicants must send their cover letter and resume to the following address: USCG Sector Houston-Galveston, Waterway Management Division, 9640 Clinton Drive, Houston, TX 77029; or by faxing (713) 671-5156; or by emailing to Michael.S.Zidik@uscg.mil.

This notice is available in our online docket, USCG-2011-1032, at http://www.regulations.gov by inserting USCG-2011-1032 in the “Keyword” box, and then clicking “Search”. Please do not post your resume on this site.

FOR FURTHER INFORMATION CONTACT: Commander Michael Zidik, ADFO of HOGANSAC at (713) 671-5164; fax (713) 671-5156; or email at Michael.S.Zidik@uscg.mil or Lieutenant Margaret Brown at (713) 678-9001; or email at Margaret.A.Brown@uscg.mil.

SUPPLEMENTARY INFORMATION: HOGANSAC is an advisory committee chartered under the Federal Advisory Committee Act, 5 U.S.C. App. (Pub. L. 92-463). HOGANSAC was established under Section 18 of the Coast Guard Authorization Act of 1991, (Pub. L. 102-241)and provides advice and recommendation to the Coast Guard on matters relating to the safe transit of vessels and products through Galveston Bay and to and from the Ports of Galveston, Houston, Texas City, and Galveston Bay.

The Committee is expected to meet at least three times a year.

We will consider applications for three positions.

(a) One at-large member who may represent a particular interest group but who utilize the port facilities at Galveston, Houston, and Texas City.

(b) One member representing labor organizations which load and unload cargo at the Ports of Galveston and Houston.

(c) One member from organizations that represent ship owners, stevedores, shipyards, or shipping organizations domiciled in the State of Texas.

Each HOGANSAC Committee member serves a term of office of up two years. Members may be considered to serve consecutive terms. All members serve at their own expense and receive no salary or reimbursement of travel expenses, or other compensation from the Federal Government.

Registered lobbyists are not eligible to serve on federal advisory committees. Registered lobbyists are lobbyists required to comply with provisions contained in the Lobbying Disclosure Act of 1995 (Pub. L. 110-81, as amended).

In support of the Coast Guard policy on gender and ethnic nondiscrimination, we encourage qualified men and women of all racial and ethnic groups to apply. The Coast Guard values diversity; all the different characteristics and attributes of persons that enhance the mission of the Coast Guard.

Dated: December 14, 2011.
James Whitehead,
Captain, U.S. Coast Guard, Designated Federal Officer.

[FR Doc. 2012-107 Filed 1-6-12; 8:45 am]

BILLING CODE 9110-04-P